ENVIRONMENTAL PROTECTION AGENCY

[EPA-HQ-OPP-2019-0356; FRL-10005-96-OMS]

Information Collection Request Submitted to OMB for Review and Approval; Comment Request; School Integrated Pest Management Awards Program (Renewal)

AGENCY: Environmental Protection Agency (EPA).

ACTION: Notice.

SUMMARY: The Environmental Protection Agency (EPA) has submitted an information collection request (ICR), School Integrated Pest Management Awards Program (EPA ICR Number 2531.02, OMB Control Number 2070-0200) to the Office of Management and Budget (OMB) for review and approval in accordance with the Paperwork Reduction Act. This is a proposed extension of the ICR, which is currently approved through May 31, 2020. This notice allows for an additional 30 days for public comments. A fuller description of the ICR is given below, including its estimated burden and cost to the public. An agency may not conduct or sponsor and a person is not required to respond to a collection of information unless it displays a currently valid OMB control number.

DATES: Comments must be received on or before June 22, 2020.

ADDRESSES: Submit your comments to EPA, referencing Docket ID No. EPA-HQ-OPP-2019-0356, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Field External Affairs Division (7506P), Office of Pesticide Programs, Environmental Protection Agency, 1200 Pennsylvania Ave. NW, Washington, DC 20460-0001; telephone number: (703) 347-0159; email address: siu.carolyn@epa.gov.

SUPPLEMENTARY INFORMATION: Supporting documents, which explain in detail the information that the EPA will be collecting, are available in the public docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

Abstract: This is a renewal information collection request (ICR) that will cover the paperwork activities associated with the U.S. Environmental Protection Agency's program to encourage the use of Integrated Pest Management (IPM) as the preferred approach to pest control in the nation's schools. IPM is a smart, sensible, and sustainable approach to pest control that emphasizes the remediation of pest conducive conditions. IPM combines a variety of pest management practices to provide effective, economical pest control with the least possible hazard to people, property, and the environment. These practices involve exclusion of pests, maintenance of sanitation, and the judicious use of pesticides.

The EPA's vision is that all students in the U.S. will experience the benefits provided by an IPM program in their school district. The Agency's IPM implementation efforts are aimed at kindergarten through 12th grade public and Tribal schools. The Agency intends to use the information collected through this ICR to encourage school districts to implement IPM programs and to recognize those that have attained a notable level of success. Since IPM implementation occurs along a continuum, the School IPM (SIPM) Awards program will recognize each milestone a school district must take to begin, grow, and sustain an IPM program.

This program has five award categories—Great Start, Leadership, Excellence, Sustained Excellence, and Connector. The first four categories are stepwise levels that are reflective of the effort, experience, and, ultimately, success that results from implementing EPA-recommended IPM tactics that protect human health and the environment. Schools with pest infestations are not only exposed to potential harm to health and property, but also to stigmatization. The SIPM Awards program will give districts across the nation the opportunity to receive positive reinforcement through public recognition of their efforts in implementing pest prevention and management strategies.

Respondents/Affected Entities: Entities potentially affected by this ICR are school districts or entities that represent them. North American Industry Classification System (NACIS) Codes for these respondents include: 6111—Elementary and Secondary Schools, 6244—Child Day Care Services, 56172—Janitorial Services, 56173—Landscaping Services, 56171—Exterminating and Pest Control Services, and 5617—Services to Buildings and Dwellings.

Respondent's obligation to respond: Voluntary, required to obtain or retain a benefit.

Estimated total number of potential respondents: 53.

Frequency of response: On occasion.

Estimated total burden: 911 hours (per year). Burden is defined at 5 CFR 1320.3(b).

Estimated total costs: $ 85,404 (per year) includes $0 in annualized capital or operation & maintenance costs.

Changes in the estimates: There is an increase of 52 hours in the total estimated respondent burden compared with that identified in the ICR currently approved by OMB. EPA's costs associated with information collection increased for both the respondents and the Agency due to the increases in the wage rates since its creation. We note that in the original ICR, the benefits (46.3 percent of the unloaded wage) were mistakenly excluded from the calculation of the fully loaded wages for the Agency, resulting in the latter being much lower than the actual values. This led to the cost increase for the Agency disproportionately larger than the cost increase for the respondents. This change is an adjustment.

Courtney Kerwin,
Director, Regulatory Support Division.

[FR Doc. 2020-11068 Filed 5-21-20; 8:45 am]

BILLING CODE 6560-50-P